DEPARTMENT OF AGRICULTURE

Grain Inspection, Packers and Stockyards Administration

7 CFR Part 868

RIN 0580-AA89

Review Inspection Requirements for Graded Commodities

AGENCY: Grain Inspection, Packers and Stockyards Administration, USDA.

ACTION: Proposed rule.

SUMMARY: The Grain Inspection, Packers and Stockyards Administration (GIPSA) is proposing to revise the regulations under the United States Agricultural Marketing Act of 1946 (AMA), as amended, to allow interested persons to specify the quality factor(s) that would be redetermined during an appeal inspection or a Board appeal inspection for grade. Currently, both appeal and Board appeal inspections for grade must include a redetermination (i.e., a complete review or examination) of all official factors that may determine the grade, as reported on the original certificate, or as required to be shown. Requiring that all quality factors be completely reexamined during an appeal or Board appeal inspection for grade is not efficient, is time consuming, and can be costly. Further, a detailed review of the preceding inspection service is not always needed to confirm the quality of the commodity. This proposed action would allow interested parties to specify which quality factor(s) should be redetermined during the appeal or Board appeal inspection service.

DATES: Comments must be received on or before September 6, 2005.

ADDRESSES: We invite you to submit comments on this proposed rule. You may submit comments by any of the following methods:

• E-mail: Send comments via electronic mail to comments.gipsa@usda.gov.

• Mail: Send hard copy written comments to Tess Butler, GIPSA, USDA, 1400 Independence Avenue, SW., Room 1647-S, Washington, DC 20250-3604.

• Fax: Send comment by facsimile transmission to: (202) 690-2755.

• Hand Delivery or Courier: Deliver comments to: Tess Butler, GIPSA, USDA, 1400 Independence Avenue, SW., Room 1647-S, Washington, DC 20250-3604.

• Federal eRulemaking Portal: Go to http://www.regulations.gov. Follow the online instructions for submitting comments.

Instructions: All comments should make reference to the date and page number of this issue of the Federal Register.

Background Documents: Regulatory analyses and other documents relating to this action will be available for public inspection in the above office during regular business hours.

Read Comments: All comments will be available for public inspection in the above office during regular business hours (7 CFR 1.27(b)).

FOR FURTHER INFORMATION CONTACT: John C. Giler, Deputy Director, Field Management Division: e-mail address john.c.giler@usda.gov, telephone: (202) 720-1748.

SUPPLEMENTARY INFORMATION:

Background

Pursuant to the United States AMA, as amended, graded commodities have established standards which are used to measure and describe the physical and biological properties of the commodities at the time of inspection. The grade, class, and condition that are reported on the official inspection certificate are based on factors that are defined in these standards. There are three kinds of factors: Condition factors, grade determining factors, and non-grade determining factors.

Condition factors include heating, odor (musty, sour, and commercially objectionable), infestation, special grade factors (e.g., smut and aromatic), and distinctly low quality factors, such as toxic seeds. When a graded commodity is found to contain an unacceptable level of one or more of these condition factors, the commodity is graded U.S. Sample Grade or assigned a special grade, such as Infested.

Grade determining factors include, but are not limited to, foreign material, defects, damaged kernels, and other classes. These factors are common to most commodities. As the percentage of such factors increases, the numerical grade decreases. For example: U.S. No. 2 Long Grain Milled Rice may contain not more than 1.5 percent red rice and damaged kernels, U.S. No. 3 may contain not more than 2.5 percent, and U.S. No. 4 may contain not more than 4.0 percent.

Non-grade determining factors include, but are not limited to, total oil and free-fatty acid in rice, and seed count and checked seed coats in beans. These factors are only determined upon request as additional information and do not affect the numerical grade designation.

After the sample has been analyzed for all factors, a grade is assigned to the sample equal to the lowest grade determined for any one of the factors. For example, if all of the factors were determined to be at the U.S. No. 1 level, except for one factor that was at the U.S. No. 3 level, then the lot would be graded U.S. No. 3.

Therefore, the final grade assigned to a sample or lot is directly dependent on achieving accuracy (closeness to the true value) and precision (repeatability) in the values obtained for the various grading factors. Accuracy and precision are affected mainly by the type of sampling device, the sampling procedure, and the grading factors; i.e., machine-determined values (objective), human judgment values (subjective), and sample homogeneity (inherent). The sources of variation are highly interrelated; each is involved, to some extent, in the final value ascribed to each grading factor of a lot and to the grade designation of that lot.

Due to inherent sampling and inspection variability, users of the official inspection system have an opportunity to obtain another inspection service when certificated results are questionable. That is, if an interested party disagrees with the grade or factor results assigned to the graded commodity, they may request that the GIPSA perform an appeal inspection.

From the original inspection service an interested person may obtain an appeal inspection service, or a Board appeal inspection service. The same inspection office that provided the original inspection service provides the appeal inspection. GIPSA's Board of Appeals and Review (BAR) in Kansas City, Missouri, provides the Board appeal inspection service, the highest level of inspection service available. The scope of the appeal or Board appeal inspection is limited to the scope of the original inspection.

Section 868.60 of the regulations currently require that appeal inspections for grade must include a complete review of all official factors that: (1) May determine the grade; or (2) are reported on the original certificate; and (3) are required to be shown. Consequently, even if the official inspector who is performing the appeal inspection finds there is only one grade-determining factor, all of the factors that were reported on the original certificate must be redetermined.

In most instances, the applicant for service does not need a complete review. Even though not allowed, most applications currently request an appeal inspection of a specific factor. Redetermining all official factors requires significant time to complete. This increases inspection costs.

The following table shows the total number of inspections versus number of appeal and Board appeal inspections for grade that have been determined during the last four fiscal years for dry beans, peas, lentils, and rice.

Fiscal year (FY) | Total inspections of beans, peas, lentils, and rice: Original inspections | Total inspections of beans, peas, lentils, and rice: Appeal inspections | Total inspections of beans, peas, lentils, and rice: Board appeal inspections
FY 2001 | 104,730 | 345 | 13
FY 2002 | 61,270 | 322 | 19
FY 2003 | 62,784 | 455 | 33
FY 2004 | 57,182 | 314 | 21

Under provisions of the AMA (7 U.S.C. 16210 et seq.), it is not mandatory for rice and pulses (the subject of this rule) to be officially inspected. This proposed rule relieves regulatory requirements and improves the efficiency of official inspection services.

The cost savings of the proposed action on the graded commodity industry could be very positive. Although it is impossible to estimate an exact dollar savings, the time spent waiting for appeal inspection results could be reduced by at least 50 percent and could, in certain circumstances, exceed 90 percent.

To provide effective and efficient official inspection services that better meet industry needs, GIPSA proposes that applicants for service be allowed to specify the factor(s) that are to be redetermined as part of an appeal or Board appeal inspection service for grade. However, appeal and Board appeal inspections for grade may include a review of any pertinent factor(s), as deemed necessary by official personnel. All official inspections (original, appeal or Board appeal inspection) must be accurate. If there is an indication that a factor (or factors) may have been misgraded or overlooked on the previous inspection, then the factor(s) in question will be redetermined.

On August 21, 2002, GIPSA proposed this same action under the U.S. Grain Standards Act (67 FR 54133). GIPSA received seven comments regarding the proposed action. All comments supported the action. Accordingly, GIPSA amended the regulations to allow requests for a reinspection and an appeal inspection to one or more grade or condition factors. This final rule was published on October 28, 2003, in (68 FR 61326).

Two of the comments received from the original proposal were from associations involved with graded commodities inspected under the authority of the AMA, asking that GIPSA extend the action to include graded products (rice and pulses).

Proposed Action

GIPSA proposes to revise §868.1 to redefine the definitions of appeal and Board appeal inspection services, and §868.60 to revise the conditions for requesting appeal and Board appeal inspection services.

Executive Order 12866

This proposed rule has been determined to be non-significant for the purpose of Executive Order 12866 and, therefore, has not been reviewed by the Office of Management and Budget (OMB). This action simplifies the regulations concerning official requirements for commodity inspections. This action reduces cost to the affected entities.

Regulatory Flexibility Act Certification

GIPSA has considered the economic impact of this proposed rule on small entities and has determined that its provision would not have a significant economic impact on a substantial number of small entities, as defined in the Regulatory Flexibility Act (RFA) (5 U.S.C. 601 et seq.).

The proposed rule will affect entities engaged in shipping graded commodities to and from points within the United States and exporting graded commodities from the United States. GIPSA estimates there are approximately 2,500 rice mills, and bean, pea, and lentil processing plants in the United States that could receive official inspection services by GIPSA, designated/delegated states, and cooperators. Inspections of graded commodities are performed by eight GIPSA offices, one Federal/State office, and six designated States which operate under cooperative agreements and under GIPSA supervision. Under the provisions of the AMA, it is not mandatory for graded commodities to be officially inspected. Further, most users of the official inspection services and those entities that perform these services do not meet the requirement of small entities. Even though some users could be considered small entities, this proposed rule relieves regulatory requirements and improves the efficiency of official inspection services. No additional cost is expected to result from this action.

Requiring all appeal inspections and Board appeal inspections for grade to include a complete review of all official factors is not needed by applicants or other parties to transactions, or by official inspection personnel. Furthermore, this requirement often reduces the efficiency of providing official inspection services and increases the costs.

This proposed rule relieves regulatory requirements and improves the efficiency of official inspection services. Further the regulations are applied equally to all entities.

Executive Order 12988

Under Executive Order 12988, Civil Justice Reform, this action is not intended to have a retroactive effect. This action will not preempt any State or local laws, regulations, or policies unless they present irreconcilable conflict with this rule. There are no administrative procedures that must be exhausted prior to any judicial challenge to the provisions of this notice.

Information Collection and Recordkeeping Requirements

In compliance with the Paperwork Reduction Act of 1995 (44 U.S.C. 3501 et seq.), the information collection and recordkeeping requirements in part 868 have been previously approved by OMB No. 0580-0013.

GIPSA is committed to compliance with the Government Paperwork Elimination Act, which requires Government agencies, in general, to provide the public the option of submitting information or transacting business electronically to the maximum extent possible.

List of Subjects in 7 CFR Part 868

Administrative practice and procedure, Agricultural commodities.

For reasons set out in the preamble, 7 CFR part 868 is proposed to be amended as follows:

PART 868—GENERAL REGULATIONS AND STANDARDS FOR CERTAIN AGRICULTURAL COMMODITIES

1. The authority citation for part 868 continues to read as follows:

Authority: Secs. 202-208, 60 Stat. 1087, as amended (7 U.S.C. 1621, et seq.)

2. Section 868.1, paragraphs (b)(3), and (b)(6) are revised to read as follows:

§ 868.1 Meaning of terms.

* * * * *

(b) * * *

(3) Appeal inspection service. A review by the Service of the result(s) of an original inspection or retest inspection service.

* * * * *

(6) Board appeal inspection service. A review by the Board of Appeals and Review of the result(s) of an original inspection or appeal inspection service on graded commodities.

* * * * *

3. Section 868.60, paragraph (b) and the OMB citation at the end of the section are revised to read as follows:

§ 868.60 Who may request appeal inspection service.

* * * * *

(b) Kind and scope of request. When the results for more than one kind of service are reported on a certificate, an appeal inspection or Board appeal inspection service, as applicable, may be requested on any or all kinds of services reported on the certificate. The scope of an appeal inspection service will be limited to the scope of the original inspection or, in the case of a Board appeal inspection service, the original or appeal inspection service. A request for appeal inspection of a retest inspection will be based upon the scope of the original inspection. If the request specifies a different scope, the request shall be dismissed. Provided, however, that an applicant for service may request an appeal or Board appeal inspection of a specific factor(s) or official grade and factors. In addition, appeal and Board appeal inspection for grade may include a review of any pertinent factor(s), as deemed necessary by official personnel.

(Approved by the Office of Management and Budget under control number 0580-0013.)

JoAnn Waterfield,
Acting Administrator, Grain Inspection, Packers and Stockyards Administration.

[FR Doc. 05-13297 Filed 7-6-05; 8:45 am]

BILLING CODE 3410-EN-P